DEPARTMENT OF HOUSING AND URBAN DEVELOPMENT

[Docket No. FR-5561-D-02]

Order of Succession for the Office of the Chief Procurement Officer

AGENCY: Office of the Chief Procurement Officer, HUD.

ACTION: Notice of Order of Succession.

SUMMARY: In this notice, the Chief Procurement Officer designates the Order of Succession for the Office of the Chief Procurement Officer.

DATES: Effective Date: August 19, 2011.

FOR FURTHER INFORMATION CONTACT: Ms. Elie F. Stowe, Assistant Chief Procurement Officer for Policy, Oversight, and Systems, Office of the Chief Procurement Officer, Department of Housing and Urban Development, 451 7th Street, SW., Room 5276, Washington, DC 20410-3000, telephone number 202-708-0294 (this is not a toll-free number). Persons with hearing or speech impairments may access this number through TTY by calling the toll-free Federal Relay Service at 800-877-8339.

SUPPLEMENTARY INFORMATION: The Chief Procurement Officer for the Department of Housing and Urban Development is issuing this Order of Succession of officials authorized to perform the functions and duties of the Office of the Chief Procurement Officer when, by reason of absence, disability, or vacancy in office, the Chief Procurement Officer is not available to exercise the powers or perform the duties of the office. This Order of Succession is subject to the provisions of the Federal Vacancies Reform Act of 1998 (5 U.S.C. 3345-3349d). This publication supersedes all prior Orders of Succession for the Office of the Chief Procurement Officer.

The Chief Procurement Officer designates the following Order of Succession.

Section A. Order of Succession

Subject to the provisions of the Federal Vacancies Reform Act of 1998, during any period when, by reason of absence, disability, or vacancy in office, the Chief Procurement Officer for the Department is unable to perform his or her functions and duties, the following officials within the Office of the Chief Procurement Officer, in the order of precedence shown, are hereby designated to exercise the powers and perform the duties of the office:

(1) Deputy Chief Procurement Officer;

(2) Assistant Chief Procurement Officer for Support Operations;

(3) Assistant Chief Procurement Officer for Program Operations;

(4) Assistant Chief Procurement Officer for Field Operations;

(5) Assistant Chief Procurement Officer for Policy and Systems;

(6) Director, Field Contracting Operations (Southern);

(7) Director, Field Contracting Operations (Western); and

(8) Director, Field Contracting Operations (Northern).

No official designated herein shall assume the functions and duties of the Chief Procurement Officer unless all other officials preceding him or her in the order of succession are unable to act by reason of absence, disability, or vacancy in office. The designated official shall perform the functions and duties until such time that the Chief Procurement Officer or a higher-ranked official in the order of succession is able to resume them, or the duration of the temporary tenure of the acting Chief Procurement Officer permitted by 5 U.S.C. 3346 elapses.

Section B. Authority Superseded.

This Order of Succession supersedes all prior Orders of Succession for the Chief Procurement Officer.

Authority: Section 7(d), Department of Housing and Urban Development Act (42 U.S.C. 3535(d)).

Dated: August 19, 2011.
Jemine A. Bryon,
Chief Procurement Officer.

[FR Doc. 2011-22188 Filed 8-29-11; 8:45 am]

BILLING CODE 4210-67-P